DEPARTMENT OF HEALTH AND HUMAN SERVICES

Administration for Community Living

Agency Information Collection Activities; Proposed Collection; Comment Request; State Health Insurance Assistance Program (SHIP) Client Contact Forms OMB Control Number 0985-0040

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the proposed Revision for the information collection requirements related to the State Health Insurance Assistance Program (SHIP) Client Contact Forms OMB Control Number 0985-0040.

DATES: Comments on the collection of information must be submitted electronically by 11:59 p.m. (EST) or postmarked by December 26, 2023.

ADDRESSES: Submit electronic comments on the collection of information to: Katherine.Glendening@acl.hhs.gov. Submit written comments on the collection of information to Administration for Community Living, 330 C Street SW, Washington, DC 20201, Attention: Katherine Glendening.

FOR FURTHER INFORMATION CONTACT: Katherine Glendening at Katherine.Glendening@acl.hhs.gov, or (202) 795-7350.

SUPPLEMENTARY INFORMATION: Under the PRA (44 U.S.C. 3501-3520), Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document. With respect to the following collection of information, ACL invites comments on our burden estimates or any other aspect of this collection of information, including:

(1) Whether the proposed collection of information is necessary for the proper performance of ACL's functions, including whether the information will have practical utility;

(2) Ways to enhance the quality, utility, and clarity of the information to be collected;

(3) Accuracy of ACL's estimate of the burden of the proposed collection of information, including the validity of the methodology and assumptions used to determine burden estimates; and

(4) Ways to minimize the burden of the collection of information on respondents, including through the use of automated collection techniques when appropriate, and other forms of information technology.

The purpose of this data collection is to collect performance data from grantees, grantee team members and partners. Congress requires this data collection for program monitoring and Government Performance Results Act (GPRA) purposes. This data collection allows ACL to communicate with Congress and the public on the SHIP, the SMP program, and the Medicare Improvements for Patients & Providers Act (MIPPA) program. The SHIP, SMP, and MIPPA programs are located in each of the 50 states, the District of Columbia, Puerto Rico, Guam and the U.S. Virgin Islands. In order to ensure that grantees report activity accurately and consistently, it is imperative that these data collection tools remain active. The respondents for this data collection are grantees, grantee team members, and partners who meet with Medicare beneficiaries and older adults' in-group settings and in one-on-one sessions to educate them on Medicare enrollment, Medicare benefits and subsidy programs, the importance of being aware of Medicare fraud, error and abuse, and having the knowledge to protect the Medicare system.

Authorizing Legislation

Section 4360(f) of OBRA 1990 created the State Health Insurance Assistance Program (SHIP) and requires the Secretary to provide a series of reports to the U.S. Congress on the performance of the SHIP program annually. The law also requires ACL to report on the program's impact on beneficiaries and to obtain important feedback from beneficiaries. This tool captures the information and data necessary for ACL to meet these Congressional requirements, as well as, capturing performance data on individual grantees providing ACL essential insight for monitoring and technical assistance purposes. In addition, the Medicare Improvements for Patients and Providers Act (MIPPA), initially passed in 2008, provided targeted funding for the SHIPs, area agencies on aging (AAAs), and Aging and Disability Resource Centers (ADRC) to conduct re enrollment assistance to Medicare beneficiaries for the Limited Income Subsidy (LIS) and Medicare Savings Program (MSP). These activities, collectively known as the MIPPA Program, have been funded nearly annually through a series of funding or extenders bills (Pub. L. 110-275 as amended by Pub. L. 111-148; Pub. L. 113-67; Pub. L. 113-93; Pub. L. 114-10; Pub. L. 115-123; and Pub. L. 116-59). Public Law 116-136, div. A, title III, section 3803(a), Mar. 27, 2020, 134 Stat. 428, extended funding for MIPPA through November 30, 2020. This tool also collects performance and outcome data on the MIPPA Program providing ACL necessary information for monitoring and oversight.

Under Public Law 104-208, the Omnibus Consolidated Appropriations Act of 1997, Congress established the Senior Medicare Patrol Projects in order to further curb losses to the Medicare program.

The Senate Committee noted that retired professionals, with appropriate training, could serve as educators and resources to assist Medicare beneficiaries and others to detect and report errors, fraud and abuse.

Among other requirements, it directed the ACL to work with the Office of Inspector General (OIG) and the Government Accountability Office (GAO) to assess the performance of the program. The ACL employs this tool to collect performance and outcome data on the SMP Program necessary information for monitoring and oversight. ACL has shared this data and worked with HHS/OIG to develop SMP performance measures.

The HHS/OIG has collected SMP performance data and issued SMP performance reports since 1997. The information from the current collection is reported by the OIG to Congress and the public. This information is also used by ACL as the primary method for monitoring the SMP Projects.

This data collection will also support ACL in tracking performance outcomes and efficiency measures with respect to annual and long-term performance targets established in the Government Performance Results Modernization Act of 2010 (GPRMA). The Performance Data for the SHIP, SMP, and MIPPA, data collection will continue to provide data necessary to determine the effectiveness of the programs.

To support alignment with Executive Order 13985 on Advancing Racial Equity and Support for Underserved Communities Through the Federal Government, Executive Order 14075 on Advancing Equality for Lesbian, Gay, Bisexual, Transgender, Queer, and Intersex Individuals, and Executive Order 13988 on Preventing and Combating Discrimination on the Basis of Gender Identity and Sexual Orientation, ACL is adding three sexual orientation and gender identity (SOGI) items to this information collection. Understanding these disparities can and should lead to improved service delivery for ACL's programs and populations served.

The proposed data collection tools may be found on the ACL website for review at: https://www.acl.gov/about-acl/public-input.

Estimated Program Burden

ACL estimates the respondent burden hours to prepare and complete all reports associated with this collection will be hours. This estimate is based on the current data systems ability to aggregate data and generate reports. By modifying several forms ACL has reduced the overall burden and grantees will no longer have to generate reports outside of the newly created data system.

Form name | Estimated time in minutes | Fraction of an hour
SMP Media Outreach & Education | 4 | 0.0667
SMP Group Outreach & Education | 4 | 0.0667
SMP Individual Interaction | 5 | 0.0833
SMP Team Member Activity | 5 | 0.0833
SMP Interaction | 5 | 0.0833
SMP Team Member | 7 | 0.1166
SHIP Media Outreach & Education | 4 | 0.0667
SHIP Group Outreach & Education | 4 | 0.0667
SHIP Team Member | 7 | 0.1166
SHIP Beneficiary Contact | 5 | 0.0833
SHIP Training Form | 6 | 0.10
SHIP Team Member Activity | 7 | 0.1166
SHIP Training | 4 | 0.0667

Estimated Annualized Burden Hours
Grantee respondent type | Form/report name | Number of respondents | Number of responses per respondent | Average burden per response (in minutes) | Total burden hours
SMP | Media Outreach & Education | 216 | 46 | 4 | 662.4
SMP | Group Outreach & Education | 6,935 | 4 | 4 | 1,849.33
SMP | Individual Interaction | 6,935 | 41 | 5 | 23,694.58
SMP | Team Member | 216 | 31 | 5 | 558
SMP | SIRS Team Member Activity | 216 | 31 | 5 | 558
SMP | SMP Interaction | 6,935 | 2 | 5 | 1,155.83
* SMP | OIG Report | * 0 | 0 | 0 | 0
* SMP | Time Spent Report | * 0 | 0 | 0 | 0
SHIP/MIPPA | Media Outreach & Education | 3,750 | 15 | 4 | 3,750
SHIP/MIPPA | Group Outreach & Education | 3,750 | 15 | 4 | 3,750
SHIP/MIPPA | SHIP Team Member | 216 | 75 | 5 | 1,350
SHIP/MIPPA | Beneficiary Contact | 15,000 | 233 | 5 | 291,250
* SHIP/MIPPA | SHIP Performance Report | * 0 | 0 | 0 | 0
* SHIP/MIPPA | Resource Report | * 0 | 0 | 0 | 0
* SHIP/MIPPA | MIPPA Performance Report | * 0 | 0 | 0 | 0
SHIP/MIPPA | SHIP Team Member Activity | 216 | 40 | 7 | 1,008
* SHIP/SMP/MIPPA | Summary Reports | * 0 | 0 | 0 | 0
* SHIP/MIPPA | Part D Enrollment Outcomes Report | * 0 | 0 | 0 | 0
Totals |  | 49,769 | 4,042,681 |  | 345,646.47
* This data collection activity is an automated task in the system and does not compute to an estimate of time for burden.

Dated: October 19, 2023.
Alison Barkoff,
Senior official performing the duties of the Administrator and the Assistant Secretary for Aging.

[FR Doc. 2023-23563 Filed 10-24-23; 8:45 am]

BILLING CODE 4154-01-P